NUCLEAR REGULATORY COMMISSION

Biweekly Notice; Applications and Amendments to Facility Operating Licenses Involving No Significant Hazards Considerations

I. Background

Pursuant to section 189a.(2) of the Atomic Energy Act of 1954, as amended (the Act), the U.S. Nuclear Regulatory Commission (the Commission or NRC staff) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from July 3, 2008 to July 16, 2008. The last biweekly notice was published on July 15, 2008 (73 FR 40629).

Notice of Consideration of Issuance of Amendments to Facility Operating Licenses, Proposed No Significant Hazards Consideration Determination, and Opportunity for a Hearing

The Commission has made a proposed determination that the following amendment requests involve no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking, Directives and Editing Branch, Division of Administrative Services, Office of Administration, U.S. Nuclear Regulatory Commission, Washington, DC 20555-0001, and should cite the publication date and page number of this Federal Register notice. Written comments may also be delivered to Room 6D22, Two White Flint North, 11545 Rockville Pike, Rockville, Maryland, from 7:30 a.m. to 4:15 p.m. Federal workdays. Copies of written comments received may be examined at the Commission's Public Document Room (PDR), located at One White Flint North, Public File Area O1F21, 11555 Rockville Pike (first floor), Rockville, Maryland. The filing of requests for a hearing and petitions for leave to intervene is discussed below.

Within 60 days after the date of publication of this notice, person(s) may file a request for a hearing with respect to issuance of the amendment to the subject facility operating license and any person whose interest may be affected by this proceeding and who wishes to participate as a party in the proceeding must file a written request via electronic submission through the NRC E-Filing system for a hearing and a petition for leave to intervene. Requests for a hearing and a petition for leave to intervene shall be filed in accordance with the Commission's “Rules of Practice for Domestic Licensing Proceedings” in 10 CFR part 2. Interested person(s) should consult a current copy of 10 CFR 2.309, which is available at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

A request for hearing or a petition for leave to intervene must be filed in accordance with the NRC E-Filing rule, which the NRC promulgated in August 28, 2007 (72 FR 49139). The E-Filing process requires participants to submit and serve documents over the Internet or in some cases to mail copies on electronic storage media. Participants may not submit paper copies of their filings unless they seek a waiver in accordance with the procedures described below.

To comply with the procedural requirements of E-Filing, at least five (5) days prior to the filing deadline, the petitioner/requestor must contact the Office of the Secretary by e-mail at hearingdocket@nrc.gov, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer™ to access the Electronic Information Exchange (EIE), a component of the E-Filing system. The Workplace Forms Viewer™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC technical help line, which is available between 8:30 a.m. and 4:15 p.m., Eastern Time, Monday through Friday. The help line number is (800) 397-4209 or locally, (301) 415-4737.

Participants who believe that they have a good cause for not submitting documents electronically must file a motion, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii). To be timely, filings must be submitted no later than 11:59 p.m. Eastern Time on the due date.

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as social security numbers, home addresses, or home phone numbers in their filings. With respect to copyrighted works, except for limited excerpts that serve the purpose of the adjudicatory filings and would constitute a Fair Use application, participants are requested not to include copyrighted materials in their submission.

For further details with respect to this amendment action, see the application for amendment which is available for public inspection at the Commission's PDR, located at One White Flint North, Public File Area 01F21, 11555 Rockville Pike (first floor), Rockville, Maryland. Publicly available records will be accessible from the ADAMS Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

Dominion Nuclear Connecticut, Inc., Docket Nos. 50-336 and 50-423, Millstone Power Station, Unit Nos. 2 and 3, New London County, Connecticut

Date of amendment request: March 25, 2008.

Description of amendment request: The proposed amendment would revise the reactor coolant system (RCS) specific activity to utilize a new indicator, Dose Equivalent Xenon-133 and only take into account the noble gas activity in the primary coolant, instead of the current indicator, average disintegration energy (E Bar). Specifically, the current Technical Specification 3.4.8, “Specific Activity,” limit on RCS gross specific activity would be replaced with a new limit on RCS noble gas specific activity. This change was proposed by the industry's Technical Specification Task Force (TSTF) and is designated TSTF-490, “Deletion of E Bar Definition and Revision to RCS Specific Activity Tech. Spec. [Technical Specification].” The Nuclear Regulatory Commission (NRC) staff issued a notice of opportunity for comment in the Federal Register on November 20, 2006 (71 FR 67170), on possible amendments concerning TSTF-490, including a model safety evaluation and model no significant hazards (NSHC) determination, using the consolidated line item improvement process. The NRC staff subsequently issued a notice of availability of the models for referencing in license amendment applications in the Federal Register on March 15, 2007 (72 FR 12217). Dominion Nuclear Connecticut, Inc., affirmed the applicability of the following NSHC determination in its application dated March 25, 2008.

Basis for proposed no significant hazards consideration determination: As required by 10 CFR 50.91(a), the licensee has provided its analysis of the issue of no significant hazards consideration, which is presented below, with NRC staff annotations:

Criterion 1—The Proposed Change Does Not Involve a Significant Increase in the Probability or Consequences of an Accident Previously Evaluated.

Reactor coolant specific activity is not an initiator for any accident previously evaluated. The Completion Time when primary coolant gross activity is not within limit is not an initiator for any accident previously evaluated. The current variable limit on primary coolant iodine concentration is not an initiator to any accident previously evaluated. As a result, the proposed change does not significantly increase the probability of an accident. The proposed change will limit primary coolant noble gases to concentrations consistent with the accident analyses. The proposed change to the Completion Time has no impact on the consequences of any design basis accident since the consequences of an accident during the extended Completion Time are the same as the consequences of an accident during the Completion Time. As a result, the consequences of any accident previously evaluated are not significantly increased.

Criterion 2—The Proposed Change Does Not Create the Possibility of a New or Different Kind of Accident from any Accident Previously Evaluated.

The proposed change in specific activity limits does not alter any physical part of the plant nor does it affect any plant operating parameter [besides the allowable specific activity in the RCS.] [The change which impacts the allowable specific activity in the RCS is consistent with the accident analyses.] [Therefore] [t]he change does not create the potential for a new or different kind of accident from any previously calculated.

Criterion 3—The Proposed Change Does Not Involve a Significant Reduction in [a] Margin of Safety.

The proposed change revises the limits on noble gas radioactivity in the primary coolant. [The proposed change will have no impact on the radiological consequences of a design basis accident because it will limit the RCS noble gas specific activity to be consistent with the accident analysis.] The proposed change is consistent with the assumptions in the safety analyses [and will ensure the monitored values protect the initial assumptions in the safety analyses.] [Therefore the change does no involve a reduction in a margin of safety.]

Based upon the reasoning presented above and the previous discussion of the amendment request, the requested change does not involve a significant hazards consideration.

The NRC staff has reviewed the licensee's analysis, with consideration of the NRC staff annotations, and, based on this review, it appears that the three standards of 10 CFR 50.92(c) are satisfied. Therefore, the NRC staff proposes to determine that the amendment request involves no significant hazards consideration.

Attorney for licensee: Lillian M. Cuoco, Esquire, Senior Nuclear Counsel, Dominion Resources Services, Inc., Building 475, 5th Floor, Rope Ferry Road, Waterford, CT 06385.

NRC Branch Chief: Harold K. Chernoff.

Florida Power and Light Company, Docket Nos. 50-250 and 50-251, Turkey Point Plant, Units 3 and 4, Miami-Dade County, Florida

Date of amendment request: September 5, 2007.

Description of amendment request: The proposed amendment would remove notes associated with License Amendment No. 221 regarding the inoperability of the Unit 4 Rod Position Indication (RPI) system for control rod F-8 in Shutdown Bank B and Amendment No. 230 from associated notes regarding the inoperability of the Unit 3 RPI system for control rod M-6 in Control Bank C.

Basis for proposed no significant hazards consideration determination: As required by 10 CFR 50.91(a), the licensee has provided its analysis of the issue of no significant hazards consideration, which is presented below:

1. Will operation of the facility in accordance with this proposed change involve a significant increase in the probability or consequences of an accident previously evaluated?

No. The proposed amendments do not involve a significant increase in the probability or consequences of an accident previously evaluated because the proposed amendments are purely administrative in nature. The proposed amendments do not make substantive changes to the Technical Specifications and do not affect any assumptions contained in plant safety analyses, the physical design and/or operation of the plant; and they do not affect the Technical Specifications that preserve safety analysis assumption.

Therefore, the proposed changes do not affect the probability or consequences of accidents previously analyzed.

2. Does the proposed change create the probability of a new or different accident from any accident previously evaluated?

No. The proposed administrative changes to the Technical Specifications do not create the possibility of a new or different kind of accident from any previously evaluated, since the proposed amendments will not change the physical plant or the modes of plant operation defined in the facility operating licenses. No new failure mode is introduced due to the proposed administrative changes, since the proposed changes do not involve the addition or modification of equipment, nor do they alter the design or operation of affected plant systems, structures, or components.

Therefore, operation of the facility in accordance with the proposed amendments would not create the possibility of a new or different kind of accident from any previously evaluated.

3. Does the proposed change involve a significant reduction in a margin of safety?

No. The operating limits and functional capabilities of the affected systems, structures, and components are unchanged by the proposed amendment. The changed Technical Specifications remove notes which are no longer in effect and do not reduce any of the margins of safety.

Therefore, operation of the facility in accordance with the proposed amendments would not involve a significant reduction in the margin of safety.

Based upon the reasoning presented above it appears that the three standards of 10 CFR 50.92(c) are satisfied. Therefore, the NRC staff proposes to determine that the amendment request involves no significant hazards consideration.

Attorney for licensee: M.S. Ross, Attorney, Florida Power & Light, P.O. Box 14000, Juno Beach, Florida 33408-0420.

NRC Branch Chief: Thomas H. Boyce.

Pacific Gas and Electric Company, Docket Nos. 50-275 and 50-323, Diablo Canyon Nuclear Power Plant, Unit Nos. 1 and 2, San Luis Obispo County, California

Date of amendment requests: April 3, 2008.

Description of amendment requests: The proposed amendments would revise Technical Specification (TS) 3.7.5, “Auxiliary Feedwater System,” to remove Surveillance Requirement 3.7.5.6, and revise TS 3.7.6, “Condensate Storage Tank (CST) and Fire Water Storage Tank (FWST),” to remove the FWST level requirements, revise the CST level requirements, and revise TS 3.7.6 to be consistent with the NUREG-1431 Standard Technical Specifications.

Basis for proposed no significant hazards consideration determination: As required by 10 CFR 50.91(a), the licensee has provided its analysis of the issue of no significant hazards consideration, which is presented below:

1. Does the proposed change involve a significant increase in the probability or consequences of an accident previously evaluated?

Response: No.

The proposed changes would revise TS 3.7.5, “Auxiliary Feedwater System,” to remove SR 3.7.5.6, and revise TS 3.7.6, “Condensate Storage Tank (CST) and Fire Water Storage Tank (FWST),” to remove the FWST level requirements, revise the CST level requirements, and revise TS 3.7.6 to be consistent with the NUREG-1431 Standard Technical Specifications. The proposed changes reflect a design change to the CST that enables the CST to provide the entire required source of usable volume of safety grade water to the AFW System pumps to remove decay and sensible heat from the Reactor Coolant System (RCS).

The CST and AFW System pumps are not accident initiators, and are credited to mitigate accidents and events. The changes have no impact on the method by which the CST or AFW system performs its functions or the required AFW system pump flowrate to be provided. With the changes, a sufficient quantity of water will continue to be supplied by the CST to the AFW pumps to remove heat from the RCS in the event of a loss of normal feedwater to the SGs, and thus the FWST volume is no longer required to be contained in the TS.

With the change, the overall quantity of water required by TS 3.7.6 to be available for the AFW pumps is reduced. This reduction in available AFW supply is acceptable based on revised plant-specific CST minimum storage volume calculations, which incorporate the design of the replacement Westinghouse Model Delta 54 Steam Generators, and the design change in Unit 2 to a Tcold upper head design.

Therefore, the proposed change does not involve a significant increase in the probability or consequences of an accident previously evaluated.

2. Does the proposed change create the possibility of a new or different accident from any accident previously evaluated?

Response: No.

The CST and AFW pumps are not accident initiators, and are credited to mitigate accidents and events. The changes have no impact on the method by which the CST or AFW system performs its functions or the required AFW system pump flowrate to be provided.

The increase in the available CST volume enables the CST for each unit to provide the required volume for the limiting natural circulation cooldown event without reliance on the FWST. The FWST will no longer need to be manually transferred to the AFW System pump suction when CST inventory is depleted following a natural circulation cooldown event.

Therefore, the proposed change does not create the possibility of a new or different accident from any accident previously evaluated.

3. Does the proposed change involve a significant reduction in a margin of safety?

Response: No.

The accident analyses credit CST inventory to meet RCS design pressure, containment design pressure, 10 CFR 100 dose limits, and 10 CFR 50.36 peak cladding temperature limits. The increase in the TS 3.7.6 available CST volume enables the CST for each unit to provide the required volume for the limiting natural circulation cooldown event without reliance on the FWST. The CST volume for the natural circulation cooldown event is greater than that required to mitigate accidents. Thus the CST will provide the entire required source of usable volume of safety grade water to the AFW System pumps to remove decay and sensible heat from the RCS.

Therefore, the proposed change does not involve a significant reduction in a margin of safety.

The NRC staff has reviewed the licensee's analysis and, based on this review, it appears that the three standards of 10 CFR 50.92(c) are satisfied. Therefore, the NRC staff proposes to determine that the amendment requests involve no significant hazards consideration.

Attorney for licensee: Jennifer Post, Esq., Pacific Gas and Electric Company, P.O. Box 7442, San Francisco, California 94120.

NRC Acting Branch Chief: Balwant K. Singal.

PSEG Nuclear LLC, Docket No. 50-354, Hope Creek Generating Station, Salem County, New Jersey

Date of amendment request: April 25, 2008.

Description of amendment request: The proposed amendment would revise the Technical Specifications (TSs) to remove the current restriction on operation of the hydrogen water chemistry (HWC) system at low power levels. Currently, the TSs state that the HWC system shall not be placed in service until reactor power reaches 20% of rated thermal power. The original restriction on HWC operation was intended to prevent increases in main steamline (MSL) radiation background levels before the MSL radiation monitors (MSLRM) setpoints were adjusted because it was assumed that the MSL radiation would increase significantly with HWC operation. The licensee's application stated that the present HWC injection rate does not cause an appreciable increase in MSL radiation, therefore, the reason for prohibiting HWC operation below 20% of rated thermal power no longer exists.

Basis for proposed no significant hazards consideration determination: As required by 10 CFR 50.91(a), the licensee has provided its analysis of the issue of no significant hazards consideration, which is presented below:

1. Does the change involve a significant increase in the probability or consequences of an accident previously evaluated?

Response: No.

Hope Creek Generating Station (HCGS) proposes to amend Technical Specification (TS) 3/4.3.2 to remove a limitation on operation of the Hydrogen Water Chemistry (HWC) System below 20% of rated thermal power. The original HWC system injected hydrogen into the condensate system at levels that caused significant increases in the main steamline radiation background. As a consequence, it was necessary to also increase the Main Steamline Radiation Monitor (MSLRM) setpoints to prevent undesirable MSLRM alarms and reactor water sample line isolations. However, the MSLRM is credited with mitigating the consequences of a Control Rod Drop Accident (CRDA) that is of concern only below 10% power. An increase in setpoint would reduce the sensitivity of the MSLRM to fuel failures resulting from a CRDA. Therefore, increasing the MSLRM setpoints is permitted only above 20% of rated thermal power where a control rod drop was analyzed not to create fuel failures. As a result of a revised system application, the HWC injection rate is now much lower than that applied originally, and main steamline radiation does not increase significantly when HWC is placed in service. Consequently there is no impact on the MSLRM setpoints at low power (below 20%).

HWC injection itself is not associated with any accident or operational occurrence analyzed in the Updated Final Safety Analysis Report (UFSAR). The purpose of HWC is to reduce Intergranular Stress Corrosion Cracking (IGSCC) in the reactor coolant system. IGSCC can lead to a loss of coolant accident. Lowering the power level at which HWC injection is initiated will increase the time that hydrogen is injected and improve IGSCC prevention. Low power operation is recommended, by EPRI [Electric Power Research Institute], to increase the time that HWC is in service. EPRI has evaluated HWC operation on plant safety systems and concluded that there are no adverse effects associated with HWC injection at low power. The implementation of low power HWC operation will follow the guidelines in BWRVIP-156 [Boiling Water Reactor Vessel and Internals Project 156 (BWRVIP-156), “Generic Guidelines for Improvement in HWC System Availability,” EPRI Report No. 1011706] to ensure reliable operation of the HWC system.

The [CRDA] is the only accident applicable to the MSLRM isolation actuation function. This accident can result in fuel failures if it occurs below 10% of rated thermal power but is not of concern above 10% power. The MSLRM trips the two Mechanical Vacuum Pumps (MVP) and isolates reactor water sample lines on high main steamline radiation. The MSLRM is credited with fuel failure detection and MVP trips in the CRDA Analysis. The MVPs are secured prior to reaching 5% of rated thermal power. The proposed change does not alter the present TS requirement prohibiting MSLRM setpoint increases below 20% of rated thermal power and thereby does not change the plant response assumed in the CRDA Analysis.

In conclusion, the proposed change will not significantly increase the probability or consequences of an accident previously evaluated.

2. Does the change create the possibility of a new or different kind of accident from any accident previously evaluated[?]

Response: No.

The HWC injects hydrogen into the secondary condensate pump suction lines and injects oxygen into the Offgas system. The existing TS prohibits HWC operation at power levels below 20% of rated thermal power. The proposed change would permit HWC at any power level. Operating procedures would begin the HWC injection at approximately 5% power when sufficient condensate flow is available to transport the hydrogen in the reactor coolant system. Injection of hydrogen into the reactor coolant system has proven to be beneficial to the reactor vessel and recirculation system piping components. The implementation of low power HWC operation will follow the guidelines in BWRVIP-156 [ ] to ensure reliable operation of the HWC system. The TS requirements for the MSLRM Isolation Actuation functions will remain unchanged. Therefore, the proposed change does not create the possibility of a new or different kind of accident from any accident previously evaluated.

3. Does the change involve a significant reduction in a margin of safety?

Response: No.

The safety margin applicable to this change is the MSLRM setpoint to main steamline radiation assumed in the CRDA Analysis. The MSLRM trip of the MVPs is credited in the CRDA Analysis. The MSLRM setpoint requirements are not changed by this proposed license amendment; both the existing and proposed footnotes associated with the MSLRM Isolation Actuation TS permit increasing the MSLRM setpoints only if the plant is operated above 20% of thermal power. This is outside the power range at which the CRDA is of concern. There is no other safety margin associated with operation of HWC. Therefore, there is no reduction in the margin of safety.

The NRC staff has reviewed the licensee's analysis and, based on this review, with changes in the areas noted above, it appears that the three standards of 10 CFR 50.92(c) are satisfied. Therefore, the NRC staff proposes to determine that the amendment request involves no significant hazards consideration.

Attorney for licensee: Jeffrie J. Keenan, Esquire, Nuclear Business Unit—N21, P.O. Box 236, Hancocks Bridge, NJ 08038.

NRC Branch Chief: Harold K. Chernoff.

Virginia Electric and Power Company, Docket Nos. 50-280 and 50-281, Surry Power Station, Unit Nos. 1 and 2, Surry County, Virginia

Date of amendment request: June 9, 2008.

Description of amendment request: The proposed changes would revise action statements in Technical Specification (TS) 3.12 for insertion limit and shutdown margin requirements, revise the applicability for the operability of the rod position indication and bank demand position indication systems, revise/add action statements for rod position indication, and add action statements for group step demand counters. These revisions enhance completeness of the Surry TS and are consistent with NUREG-1431, Revision 3.0, “Standard Technical Specifications, Westinghouse Plants.”

Basis for proposed no significant hazards consideration determination: As required by 10 CFR 50.91(a), the licensee has provided its analysis of the issue of no significant hazards consideration, which is presented below:

1. Does the change involve a significant increase in the probability or consequences of an accident previously evaluated?

Response: No.

The proposed change is being made to enhance the completeness of the Surry TS and to achieve consistency with NUREG-1431 with respect to requirements and action statements for insertion limits, SDM, rod position indication, and group step demand counters. The proposed change does not add or modify any plant systems, structures or components (SSCs). Thus, the proposed change does not affect initiators of analyzed events or assumed mitigation of accident or transient events. Therefore, this change does not involve a significant increase in the probability or consequences of an accident previously evaluated.

2. Does the change create the possibility of a new or different kind of accident from any accident previously evaluated?

Response: No.

The proposed change does not involve a physical alteration of the plant (no new or different type of equipment will be installed). Although the proposed change revises the applicability of the operability requirements for the Rod Position Indication and Bank Demand Position Indication Systems, it does not involve a change in methods governing plant startup, operation, or shutdown. The proposed change does not adversely affect accident initiators or precursors, nor does it alter the design assumptions, conditions, or configuration of the facility. The proposed change does not alter or prevent the ability of SSCs to perform their intended function to mitigate the consequences of an initiating event within the assumed acceptance limits. Thus, this change does not create the possibility of a new or different kind of accident from any accident previously evaluated.

3. Does this change involve a significant reduction in a margin of safety?

Response: No.

The proposed change does not result in plant operation in a configuration outside the analyses or design basis, nor does it alter the condition or performance of equipment or systems used in accident mitigation or assumed in any accident analysis. Therefore, the proposed TS change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Lillian M. Cuoco, Esq., Senior Counsel, Dominion Resources Services, Inc., 120 Tredegar Street, RS-2, Richmond, VA 23219.

NRC Branch Chief: Melanie C. Wong.

Previously Published Notices of Consideration of Issuance of Amendments to Facility Operating Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

FPL Energy Duane Arnold, LLC, Docket No. 50-331, Duane Arnold Energy Center, Linn County, Iowa

Date of amendment request: February 19, 2008.

Brief description of amendment request: The proposed amendment revises the technical specification Actions for the Emergency Diesel Generators (EDG) to remove the conditional surveillance requirement to test the alternate EDG whenever one EDG is taken out of service for pre-planned preventive maintenance and testing.

Date of publication of individual notice in Federal Register: June 13, 2008 (73 FR 33853).

Expiration date of individual notice: August 12, 2008.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management Systems (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

AmerGen Energy Company, LLC, Docket No. 50-461, Clinton Power Station, Unit No. 1, DeWitt County, Illinois

Date of application for amendment: January 26, 2006, as supplemented by letters dated June 6, October 11, 2007, and April 10, 2008.

Brief description of amendment: The proposed changes would revise TS 3.3.1.1, “Reactor Protection System (PRS) Instrumentation,” Table 3.3.1.1-1, “Reactor Protection System Instrumentation,” Function 8, “Scram Discharge Volume [SDV] Water Level—High,” item b, “Float Switch,” by replacing SR 3.3.1.1.9 with SR 3.3.1.1.12. This change will effectively revise the surveillance frequency for the SDV level float switch from every 92 days to every 24 months.

Date of issuance: June 30, 2008.

Effective date: As of the date of issuance and shall be implemented within 60 days.

Amendment No.: 179.

Facility Operating License No. NPF-62: The amendment revised the Technical Specifications and License.

Date of initial notice in Federal Register: May 22, 2007 (72 FR 28719).

The June 6, October 11, 2007, and April 10, 2008 supplements contained clarifying information and did not change the NRC staff's initial proposed finding of no significant hazards consideration.

The Commission's related evaluation of the amendment is contained in a Safety Evaluation dated June 30, 2008.

No significant hazards consideration comments received: No.

Dominion Energy Kewaunee, Inc., Docket No. 50-305, Kewaunee Power Station, Kewaunee County, Wisconsin

Date of application for amendment: July 2, 2007.

Brief description of amendment: The proposed amendment would delete operating license (OL) condition 2.C (5), “Fuel Burnup,” which restricts maximum rod average burnup to 60 giga-watt days per metric ton uranium (GWD/MTU). Deletion of the OL condition will provide the opportunity to increase maximum rod average burnup to as high as 62 GWD/MTU and allow fuel management flexibility.

Date of issuance: July 2, 2008.

Effective date: As of the date of issuance and shall be implemented within 60 days.

Amendment No.: 198.

Facility Operating License No. DPR-43: Amendment revised the Technical Specifications.

Date of initial notice in Federal Register: August 28, 2007 (72 FR 49571).

The Commission's related evaluation of the amendment is contained in a Safety Evaluation dated July 2, 2008.

No significant hazards consideration comments received: No.

Energy Northwest, Docket No. 50-397, Columbia Generating Station, Benton County, Washington

Date of application for amendment: July 30, 2007.

Brief description of amendment: The amendment revises the Technical Specification (TS) requirements related to control room envelope habitability in accordance with TS Task Force (TSTF) traveler TSTF-448-A, “Control Room Habitability,” Revision 3.

Date of issuance: June 30, 2008.

Effective date: As of its date of issuance and shall be implemented within 150 days from the date of issuance.

Amendment No.: 207.

Facility Operating License No. NPF-21: The amendment revised the Facility Operating License and Technical Specifications.

Date of initial notice in Federal Register: August 28, 2007 (72 FR 49573).

The Commission's related evaluation of the amendment is contained in a Safety Evaluation dated June 30, 2008.

No significant hazards consideration comments received: No.

Entergy Operations, Inc., Docket No. 50-313, Arkansas Nuclear One, Unit No. 1, Pope County, Arkansas

Date of amendment request: March 13, 2008.

Brief description of amendment: The amendment revises Surveillance Requirement (SR) 3.6.5.8 to require verification that the reactor building spray nozzles are unobstructed following maintenance that could result in nozzle blockage, in lieu of the current SR of performing the test every 10 years.

Date of issuance: July 9, 2008.

Effective date: As of the date of issuance and shall be implemented within 90 days from the date of issuance.

Amendment No.: 233.

Renewed Facility Operating License No. DPR-51: Amendment revised the Technical Specifications/license.Date of initial notice in Federal Register: May 6, 2008 (73 FR 25038).

The Commission's related evaluation of the amendment is contained in a Safety Evaluation dated July 9, 2008.

No significant hazards consideration comments received: No.

Southern Nuclear Operating Company, Inc., Docket Nos. 50-424 and 50-425, Vogtle Electric Generating Plant, Units 1 and 2, Burke County, Georgia

Date of application for amendments: January 9, 2008, as supplemented on February 6, 2008, March 5, 2008 and May 22, 2008.

Brief description of amendments: The amendments revised Technical Specifications (TSs) 3.3.2, “Engineered Safety Feature Actuation System (ESFAS) Instrumentation,” Table 3.3.2-1, “Engineered Safety Feature Actuation System Instrumentation,” Function 7.b, and TS 3.5.4, “Refueling Water Storage Tank (RWST),” Surveillance Requirement (SR) 3.5.4.2. The proposed change to TS 3.3.2 lowered the nominal trip setpoint and corresponding allowable value of the refueling water storage tank (RWST) Level-Low Low at which the semi-automatic switchover from the RWST to the containment emergency sump occurs.

Date of issuance: July 7, 2008.

Effective date: As of the date of issuance and shall be implemented within 30 days from the date of issuance.

Amendment Nos.: Unit 1—151; Unit 2—132.

Facility Operating License Nos. NPF-68 and NPF-81: Amendments revised the licenses and the technical specifications.

Date of initial notice in Federal Register: January 29, 2008 (73 FR 5230).

The supplements dated February 6, 2008, March 5, 2008 and May 22, 2008, provided additional information that clarified the application, did not expand the scope of the application as originally noticed, and did not change the staff's original proposed no significant hazards consideration determination. The Commission's related evaluation of the amendments is contained in a Safety Evaluation dated July 7, 2008.

No significant hazards consideration comments received: No.

Virginia Electric and Power Company, et al., Docket Nos. 50-280 and 50-281, Surry Power Station, Units 1 and 2, Surry County, Virginia

Date of application for amendments: July 13, 2007, as supplemented on August 20, 2007.

Brief description of amendments: These amendments revised the Technical Specifications (TSs) requirements related to main control room and emergency switchgear room envelope habitability. These changes are consistent with the Nuclear Regulatory Commission (NRC)-approved Revision 3 of Technical Specification Task Force (TSTF) Standard Technical Specifications (STS) Change Traveler TSTF-448, “Control Room Habitability.”

Date of issuance: July 7, 2008.

Effective date: As of the date of issuance and shall be implemented within 90 days.

Amendment Nos.: 260, 260.

Renewed Facility Operating License Nos. DPR-32 and DPR-37: Amendments changed the licenses and the technical specifications.

Date of initial notice in Federal Register: August 14, 2007 (72 FR 45463).

The supplement dated August 20, 2007, provided additional information that clarified the application, did not expand the scope of the application as originally noticed, and did not change the staff's original proposed no significant hazards consideration determination. The Commission's related evaluation of the amendments is contained in a Safety Evaluation dated July 7, 2008.

No significant hazards consideration comments received: No.

Dated at Rockville, Maryland, this 17th day of July 2008.
For the Nuclear Regulatory Commission.
Joseph G. Giitter,
Director, Division of Operating Reactor Licensing, Office of Nuclear Reactor Regulation.

[FR Doc. E8-17102 Filed 7-28-08; 8:45 am]

BILLING CODE 7590-01-P